DEPARTMENT OF THE INTERIOR

Fish and Wildlife Service

[Docket No. FWS-R4-ES-2024-0149; FXES11140400000-245-FF04EF4000]

Receipt of Application for Renewal of an Incidental Take Permit for the Sand Skink; Lake County, FL; Categorical Exclusion

AGENCY: Fish and Wildlife Service, Interior.

ACTION: Notice of availability; request for comments.

SUMMARY: We, the Fish and Wildlife Service (Service), announce receipt of an application from Sunterra Communities, LLC (applicant) for renewal of an incidental take permit (ITP) under the Endangered Species Act. If granted, the renewed ITP would authorize take of the federally listed as threatened sand skink (Neoseps reynoldsi) incidental to the construction of a residential and commercial development in Lake County, Florida. The applicant requests the renewal of the ITP to extend the expiration date for 5 additional years. There is no request for additional take or increases in development levels. The proposed renewal maintains the existing levels of take and renews the permit through June 14, 2029. We request public comment on the application, which includes the applicant's original unchanged habitat conservation plan (HCP), and the Service's determination that the proposed renewal remains eligible for a categorical exclusion pursuant to the Council on Environmental Quality's National Environmental Policy Act (NEPA) regulations, the Department of the Interior's (DOI) NEPA regulations, and the DOI Departmental Manual. To make this preliminary determination, we used our existing environmental action statement and low-effect screening form, both of which are also available for public review. We invite comment from the public and local, State, Tribal, and Federal agencies.

DATES: We must receive your written comments on or before December 2, 2024.

ADDRESSES:

Obtaining Documents: The documents this notice announces, as well as any comments and other materials that we receive, will be available for public inspection online in Docket No. FWS-R4-ES-2024-0149 at https://www.regulations.gov.

Submitting Comments: If you wish to submit comments on any of the documents, you may do so in writing by one of the following methods:

• Online: https://www.regulations.gov. Follow the instructions for submitting comments on Docket No. FWS-R4-ES-2024-0149;

• U.S. mail: Public Comments Processing, Attn: Docket No. FWS-R4-ES-2024-0149; U.S. Fish and Wildlife Service, MS: PRB/3W, 5275 Leesburg Pike, Falls Church, VA 22041-3803.

FOR FURTHER INFORMATION CONTACT: Erin Gawera, via email at erin_gawera@fws.gov or by telephone at 904-404-2464. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: We, the Fish and Wildlife Service (Service), announce receipt of an application from Sunterra Communities, LLC for renewal of incidental take permit (ITP) number TE13200D-0 under the Endangered Species Act (ESA; 16 U.S.C. 1531 et seq.). The applicant requests the renewal of the ITP for 5 additional years. The proposed ITP renewal would grant the applicant additional time to complete the residential and commercial development. The amendment to renew does not include any changes in the covered area, activity, amount or type of take, or species to be covered by the permit. The applicant's existing habitat conservation plan (HCP) provides measures to mitigate for the incidental take of the species.

We request public comment on the renewal application, which includes the applicant's HCP, and on the Service's preliminary determination that this proposed ITP renewal qualifies as low effect, and qualifies for a categorical exclusion pursuant to the Council on Environmental Quality's National Environmental Policy Act (NEPA) regulations (40 CFR 1501.4), the Department of the Interior's (DOI) NEPA regulations (43 CFR 46), and the DOI's Departmental Manual (516 DM 8.5(C)(2)). To make this preliminary determination, we used our environmental action statement and low-effect screening form, both of which are also available for public review.

Proposed Project Renewal

The applicant requests to extend the ITP expiration date for 5 additional years and does not propose any other changes that alter the original review analyses by the Service. There is no request for additional take or increases in development levels; the proposed time extension maintains the existing levels of take, and would merely extend the covered activities out to June 14, 2029, instead of June 14, 2024.

Our Preliminary Determination

The Service has made a preliminary determination that the applicant's proposed permit renewal, extending the expiration date of the original ITP for 5 additional years, would individually and cumulatively have a minor effect on the covered species and the human environment. Therefore, we have preliminarily determined that renewal of the ITP for this project would be a low-effect ITP that individually or cumulatively would have a minor effect on the species and qualifies for application of a categorical exclusion pursuant to the Council on Environmental Quality's NEPA regulations, DOI's NEPA regulations, and the DOI Departmental Manual. A low-effect ITP is one that would result in (1) minor or nonsignificant effects on species covered in the HCP; (2) nonsignificant effects on the human environment; and (3) impacts that, when added together with the impacts of other past, present, and reasonable foreseeable actions, would not result in significant cumulative effects to the human environment.

Next Steps

The Service will evaluate the application and any comments received to determine whether to renew the current permit. We will also conduct an intra-Service consultation pursuant to section 7 of the ESA to evaluate the effects of the proposed take. After considering the preceding and other matters, we will determine whether the permit issuance criteria of section 10(a)(1)(B) of the ESA have been met. If met, the Service will issue a renewal of this ITP (TE13200D-0) under number PER11067884 to Sunterra Communities, LLC.

Public Availability of Comments

Before including your address, phone number, email address, or other personal identifying information in your comment, be aware that your entire comment, including your personal identifying information, may be made available to the public. If you submit a comment at https://www.regulations.gov, your entire comment, including any personal identifying information, will be posted on the website. If you submit a hardcopy comment that includes personal identifying information, such as your address, phone number, or email address, you may request at the top of your document that we withhold this information from public review. However, we cannot guarantee that we will be able to do so. Moreover, all submissions from organizations or businesses, and from individuals identifying themselves as representatives or officials of organizations or businesses, will be made available for public disclosure in their entirety.

Authority

The Service provides this notice under section 10(c) of the ESA (16 U.S.C. 1531 et seq.) and its implementing regulations (50 CFR 17.32), and the National Environmental Policy Act (42 U.S.C. 4321 et seq.) and its implementing regulations (40 CFR 1500-1508 and 43 CFR 46).

Robert L. Carey,
Division Manager, Environmental Review, Florida Ecological Services Office.

[FR Doc. 2024-25455 Filed 10-31-24; 8:45 am]

BILLING CODE 4333-15-P